DEPARTMENT OF ENERGY

Federal Energy Regulatory Commission

Combined No.tice of Filings

February 17, 2010.

Take notice that the Commission has received the following Natural Gas Pipeline Rate and Refund Report filings:

Docket Numbers: RP10-370-000.

Applicants: Kinder Morgan Interstate Gas Trans. LLC.

Description: Kinder Morgan Interstate Gas Transmission LLC submits Original Sheet No. 4G.03 to FERC Gas Tariff, Fourth Revised Volume No. 1A, to be effective 3/1/10.

Filed Date: 02/12/2010.

Accession Number: 20100216-0201.

Comment Date: 5 p.m. Eastern Time on Wednesday, February 24, 2010.

Docket Numbers: RP10-371-000.

Applicants: Kinder Morgan Interstate Gas Trans. LLC.

Description: Kinder Morgan Interstate Gas Transmission LLC submits Ninth Revised Sheet No. 4G.02 to FERC Gas Tariff, Fourth Revised Volume No. 1A.

Filed Date: 02/05/2010.

Accession Number: 20100216-0202.

Comment Date: 5 p.m. Eastern Time on Friday, February 19, 2010.

Docket Numbers: RP10-372-000.

Applicants: Rockies Express Pipeline LLC.

Description: Rockies Express Pipeline LLC submits Eighth Revised Sheet No. 8 et al. to FERC Gas Tariff, Second Revised Volume No. 1, to be effective 2/13/10.

Filed Date: 02/12/2010.

Accession Number: 20100216-0203.

Comment Date: 5 p.m. Eastern Time on Wednesday, February 24, 2010.

Docket Numbers: RP10-373-000.

Applicants: Rockies Express Pipeline LLC.

Description: Rockies Express Pipeline LLC submits Seventh Revised Sheet No. 8C et al. to FERC Gas Tariff, Second Revised Volume No. 1, to be effective 2/12/10.

Filed Date: 02/12/2010.

Accession Number: 20100216-0204.

Comment Date: 5 p.m. Eastern Time on Wednesday, February 24, 2010.

Docket Numbers: RP10-374-000.

Applicants: CenterPoint Energy Gas Transmission Co.

Description: CenterPoint Energy Gas Transmission Co's requests for a limited waiver of tariff provisions and expedited consideration.

Filed Date: 02/12/2010.

Accession Number: 20100216-0205.

Comment Date: 5 p.m. Eastern Time on Friday, February 19, 2010.

Docket Numbers: RP10-375-000.

Applicants: Texas Eastern Transmission LP.

Description: Texas Eastern Transmission, LP submits its FERC Gas Tariff, Seventh Revised Volume 1 and First Revised Volume 2, to be effective 3/14/10.

Filed Date: 02/12/2010.

Accession Number: 20100216-0206.

Comment Date: 5 p.m. Eastern Time on Wednesday, February 24, 2010.

Docket Numbers: RP10-376-000.

Applicants: Columbia Gulf Transmission Company.

Description: Columbia Gulf Transmission Company's Annual Report on Operational Purchases and Sales.

Filed Date: 02/16/2010.

Accession Number: 20100216-5108.

Comment Date: 5 p.m. Eastern Time on Monday, March 01, 2010.

Docket Numbers: RP10-377-000.

Applicants: Hardy Storage Company LLC.

Description: Hardy Storage Company, LLC Annual Report on Operational Transactions.

Filed Date: 02/16/2010.

Accession Number: 20100216-5109.

Comment Date: 5 p.m. Eastern Time on Monday, March 01, 2010.

Docket Numbers: RP10-380-000.

Applicants: Kinder Morgan Interstate Gas Pipeline LLC.

Description: Kinder Morgan Interstate Gas Pipeline LLC submits Tenth Revised Sheet No. 4G.02 et al. to FERC Gas Tariff, Fourth Revised Volume No. 1-A.

Filed Date: 02/16/2010.

Accession Number: 20100217-0220.

Comment Date: 5 p.m. Eastern Time on Monday, March 01, 2010.

Docket Numbers: RP10-381-000.

Applicants: Columbia Gulf Transmission Company.

Description: Columbia Gulf Transmission Company requests waiver of the Annual Transportation Retainage Rate Adjustment (TRA) set forth in section 33.2 of the General Terms and Conditions of its tariff which requires Columbia Gulf to file its TRA by March 1, to be effective 4/1/10.

Filed Date: 02/16/2010.

Comment Date: 5 p.m. Eastern Time on Friday, February 19, 2010.

Docket Numbers: RP10-382-000.

Applicants: Columbia Gas Transmission, LLC.

Description: Columbia Gas Transmission Company, LLC requests waiver of the Annual Retainage Adjustment Mechanism (RAM) set forth in Section 35.2 of the General Terms and Conditions of its tariff which requires Columbia Gas to file its RAM by March 1, to be effective 4/1/10.

Filed Date: 02/16/2010.

Comment Date: 5 p.m. Eastern Time on Friday, February 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-4563 Filed 3-3-10; 8:45 am]

BILLING CODE P